DEPARTMENT OF COMMERCE

National Oceanic and Atmospheric Administration

[I.D. 092602E]

Marine Mammals; File No. 774-1649-00

AGENCY: National Marine Fisheries Service (NMFS), National Oceanic and Atmospheric Administration (NOAA), Commerce.

ACTION: Receipt of application for amendment.

SUMMARY: Notice is hereby given that NMFS, Southwest Fisheries Science Center, 8604 La Jolla Shores Drive, La Jolla, CA 92037, has requested an amendment to Permit No. 774-1649 to take Southern elephant seals (Mirounga leonina).

DATES: Written or telefaxed comments must be received on or before November 1, 2002.

ADDRESSES: The amendment request and related documents are available for review upon written request or by appointment in the following office(s):

Permits, Conservation and Education Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)713-0376, provided the facsimile is confirmed by hard copy submitted by mail and postmarked no later than the closing date of the comment period. Please note that comments will not be accepted by e-mail or other electronic media.

FOR FURTHER INFORMATION CONTACT: Ruth Johnson and Amy Sloan (301)713-2289.

SUPPLEMENTARY INFORMATION: The subject amendment to Permit No. 774-1649 issued on November 14, 2001 (66 FR 58445) is requested under the authority of the Marine Mammal Protection Act of 1972, as amended (16 U.S.C. 1361 et seq.) and the Regulations Governing the Taking and Importing of Marine Mammals (50 CFR part 216).

Permit No.774-1649-00 authorizes the permit holder to take Antarctic fur seals (Arctocephalus gazella), Southern elephant seals (Mirounga leonina), Crabeater seals (Lobodon carcinophagus), Leopard seals (Hydrurga leptonyx), Ross seals (Ommatophoca rossii), and Weddell seals (Leptonychotes weddellii) by harassment associated with life history studies and census surveys for abundance and distribution of pinnipeds. The targeted species for census surveys is the Antarctic fur seal, however, due to overlap of their breeding range with southern elephant and ice seals, a relatively small number of other Antarctic pinnipeds are authorized be taken incidentally during these surveys.

The permit holder requests authorization to take Southern elephant seal pups by level A harassment associated with capture, tagging and marking. A total of 200 seals will be taken with four accidental mortalities over the next four years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: September 26, 2002.
Eugene T. Nitta,
Acting Chief, Permits, Conservation and Education Division, Office of Protected Resources, National Marine Fisheries Service.

[FR Doc. 02-25075 Filed 10-1-02; 8:45 am]

BILLING CODE 3510-22-S